DEPARTMENT OF THE INTERIOR

Office of Surface Mining Reclamation and Enforcement

30 CFR Part 773

RIN 1029-AB94

Requirements for Permits and Permit Processing; Correction

AGENCY: Office of Surface Mining Reclamation and Enforcement, Interior.

ACTION: Final rule, correction.

SUMMARY: We, the Office of Surface Mining Reclamation and Enforcement, are publishing corrections to a final rule which was published on Tuesday, December 19, 2000 (65 FR 79582). The final rule related to requirements for permits and permit processing and ownership and control under the Surface Mining Control and Reclamation Act of 1977, as amended.

EFFECTIVE DATE: March 23, 2001.

FOR FURTHER INFORMATION CONTACT: Stephen McEntegart, Office of Surface Mining Reclamation and Enforcement, 1951 Constitution Avenue, NW., Washington, DC 20240. Telephone: 202-208-2968. Electronic Mail: smcenteg@osmre.gov. Additional information concerning OSM and related documents may be found on OSM's Internet home page (Internet address: http://www.osmre.gov) and on our AVS Office's Internet home page (Internet address: http://www.avs.osmre.gov).

SUPPLEMENTARY INFORMATION: We are making corrections to the final rule published on Tuesday, December 19, 2000 (65 FR 79582). The final rule redesignated former § 773.13 as § 773.6. In amendatory language revising a cross-reference contained in the newly designated paragraph § 773.6(a)(3)(ii), we made a typographical error by citing the paragraph as “§ 773.5(a)(3)(ii).” The instruction should have read “newly designated § 773.6(a)(3)(ii).”

The final rule also redesignated former paragraph § 773.15(d) as section § 773.16. Former paragraph § 773.15(d) began with the paragraph heading “Performance bond submittal.” Inadvertently, we failed to instruct the Federal Register to delete the paragraph heading for § 773.15(d) and to use it as the section heading for § 773.16.

Accordingly, the publication on December 19, 2000, of the final rule which was the subject of FR Doc. 00-32002, is corrected as follows:

§ 773.6 [Corrected]

1. On page 79663, in the third column, in amendatory instruction number 12, the citation to “§ 773.5(a)(3)(ii)” is corrected to read “§ 773.6(a)(3)(ii).”

§ 773.16 [Corrected]

2. On page 79663, in the second column, amendatory instruction number 10 is corrected by adding the following redesignation in sequential order to the table to read as follows:

Section | Is redesignated as * * *
* * * * *
773.15(d), paragraph heading | 773.16, section heading.

Dated: March 9, 2001.
Piet deWitt,
Acting Assistant Secretary, Land and Minerals Management.

[FR Doc. 01-7138 Filed 3-22-01; 8:45 am]

BILLING CODE 4310-05-M